DEPARTMENT OF DEFENSE

Department of the Army

[Docket ID: USA-2015-0021]

Privacy Act of 1974; System of Records

AGENCY: Department of the Army, DoD.

ACTION: Notice to amend a system of records.

SUMMARY: The Department of the Army proposes to amend a system of records, A0070-45 DASG, entitled “Medical Scientific Research Data Files”. This is now a closed system; no new records will be added. Records were used to create a database of immunological or vaccinal data for research purposes to answer inquiries and provide data on health issues of individuals who participated in research conducted or sponsored by U.S. Army Medical Research Institute of Infectious Diseases, U.S. Army Medical Research and Development Command, and U.S. Army Chemical Research, Development, and Engineering Center.

DATES: Comments will be accepted on or before July 22, 2015. This proposed action will be effective on the day following the end of the comment period unless comments are received which result in a contrary determination.

ADDRESSES: You may submit comments, identified by docket number and title, by any of the following methods:

* Federal Rulemaking Portal: http://www.regulations.gov.

Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Room 144, Alexandria, VA 22315-3827 or by phone at 703-428-7499.

SUPPLEMENTARY INFORMATION: The Department of the Army systems of records notices subject to the Privacy Act of 1974 (5 U.S.C. 552a), as amended, have been published in the Federal Register and are available from the address in FOR FURTHER INFORMATION CONTACT or at the Defense Privacy and Civil Liberties Division Web site at http://dpcld.defense.gov/.

The proposed changes to the record system being amended are set forth below. The proposed amendment is not within the purview of subsection (r) of the Privacy Act of 1974 (5 U.S.C. 552a), as amended, which requires the submission of a new or altered system report.

Dated: June 17, 2015.
Aaron Siegel,
Alternate OSD Federal Register Liaison Officer, Department of Defense.

A0070-45 DASG

System name:

Medical Scientific Research Data Files (April 4, 2003, 68 FR 16484)

Changes:

* * * * *

System name:

Delete entry and replace with “CLOSED—Medical Scientific Research Data Files.”

System location:

Delete entry and replace with “Primary location: U.S. Army Medical Research and Development Command, 504 Scott Street, Fort Detrick, MD 21701-5009.

Secondary location: U.S. Army Chemical Research, Development, and Engineering Center, Aberdeen Proving Ground, MD 21010-5423.”

Categories of individuals covered by the system:

Delete entry and replace with “This is a closed system—no new records will be added. Volunteers who participated in the Sandfly Fever (Clinical Research Data) studies at the U.S. Army Medical Research Institute of Infectious Diseases; individuals who participated in research sponsored by the U.S. Army Medical Research and Development Command and the U.S. Army Chemical Research, Developments, and Engineering Center; and individuals at Fort Detrick who had been immunized with a biological product or who fell under the Occupational Health and Safety Act or Radiologic Safety Program.”

* * * * *

Authority for maintenance of the system:

Delete entry and replace with “10 U.S.C. 3013, Secretary of the Army; 10 U.S.C., Chapter 55, Medical and Dental Care; Army Regulation 70-25, Use of Volunteers as Subjects of Research; Army Regulation 70-45, Scientific and Technical Information Program; Occupational Safety and Health Administration Act of 1970; and E.O. 9397 (SSN), as amended.”

Purpose(s):

Delete entry and replace with “Records were used to create a database of immunological or vaccinal data for research purposes to answer inquiries and provide data on health issues of individuals who participated in research conducted or sponsored by U.S. Army Medical Research Institute of Infectious Diseases, U.S. Army Medical Research and Development Command, and U.S. Army Chemical Research, Development, and Engineering Center.

To provide individual participants with newly acquired information that may impact their health; to maintain and manage scheduling of health screening tests immunizations, physicals, safety and immunogenicity and other special procedures for a given vaccine or biosurveillance program, radiologic safety program and occupational health safety program.”

Routine uses for records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

To the Department of Veteran Affairs to assist in making determinations relative to claims for service connected disabilities; and other such benefits.

The DoD Blanket Routine Uses set forth at the beginning of the Army's compilation of systems of records notices may apply to this system. The complete list of DoD blanket routine uses can be found online at: http://dpcld.defense.gov/Privacy/SORNsIndex/BlanketRoutineUses.aspx.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

Storage:

Delete entry and replace with “Electronic storage media and paper records.”

* * * * *

Safeguards:

Delete entry and replace with “Records are maintained in buildings which are locked when unattended and are accessed only by authorized personnel having an official need-to-know. DoD Components and approved users ensure that electronic and paper records collected and used are maintained in controlled areas accessible only to authorized personnel. Physical security differs from site to site, but the automated records must be maintained in controlled areas accessible only by authorized personnel. Access to computerized data is restricted by use of common access cards (CACs) and is accessible only by users with an authorized account. The system and electronic backups are maintained in controlled facilities that employ physical restrictions and safeguards such as security guards, identification badges, key cards, and locks.”

Retention and disposal:

Delete entry and replace with “The records are kept until no longer needed for conducting business, then retired to the Records Holding Area and/or Army Electronic Archive (RHA/AEA). The RHA/AEA will destroy records when the record is 75 years old.”

System manager(s) and address:

Delete entry and replace with “Commander, U.S. Army Medical Research Institute of Infectious Diseases (USAMRIID), 1425 Porter Street, Fort Detrick, MD 21702-5011 for special immunization records and research records that have been conducted at the facility.

Office of The Surgeon General, Headquarters, Department of Army, 5109 Leesburg Pike, Falls Church, VA 22041-3258 for all other records maintained in this system of records.”

Notification procedure:

Delete entry and replace with “Individuals seeking to determine whether information about themselves is contained in this system of records should address written inquiries to the Commander, USAMRIID 1425 Porter Street Fort Detrick, MD 21702-5011.

For verification purposes the individual should provide full name, SSN, military status, and any other information verifiable from the record itself.

For personal visits, the individual should provide a state or Federal picture identification card.

In addition, the requester must provide a notarized statement or an unsworn declaration made in accordance with 28 U.S.C. 1746, in the following format:

If executed outside the United States: `I declare (or certify, verify, or state) under penalty of perjury under the laws of the United States of America that the foregoing is true and correct.

Executed on (date). (Signature).'

If executed within the United States, its territories, possessions, or commonwealths: `I declare (or certify, verify, or state) under penalty of perjury that the foregoing is true and correct. Executed on (date). (Signature).' ”

Record access procedures:

Delete entry and replace with “Individuals seeking access to information about themselves contained in this system of records should address written inquiries to the Commander, USAMRIID 1425 Porter Street Fort Detrick, MD 21702-5011.

For verification purposes the individual should provide full name, SSN, military status, and any other information verifiable from the record itself.

For personal visits, the individual should provide a state or Federal picture identification card.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

* * * * *

[FR Doc. 2015-15260 Filed 6-19-15; 8:45 am]

BILLING CODE 5001-06-P